DEFENSE NUCLEAR FACILITIES SAFETY BOARD

Senior Executive Service Performance Review Board

AGENCY: Defense Nuclear Facilities Safety Board.

ACTION: Notice.

SUMMARY: This notice announces the membership of the Defense Nuclear Facilities Safety Board (DNFSB) Senior Executive Service (SES) Performance Review Board (PRB).

DATES: Effective Date: September 17, 2010.

ADDRESS: Send comments concerning this notice to: Defense Nuclear Facilities Safety Board, 625 Indiana Avenue, NW., Suite 700, Washington, DC 20004-2001.

FOR FURTHER INFORMATION CONTACT: Deborah Biscieglia by telephone at (202) 694-7041 or by e-mail at debbieb@dnfsb.gov.

SUPPLEMENTARY INFORMATION: 5 U.S.C. 4314 (c)(1) through (5) requires each agency to establish, in accordance with regulations prescribed by the Office of Personnel Management, one or more performance review boards. The PRB shall review and evaluate the initial summary rating of the senior executive's performance, the executive's response, and the higher level official's comments on the initial summary rating. In addition, the PRB will review and recommend executive performance bonuses and pay increases.

The DNFSB is a small, independent Federal agency; therefore, the members of the DNFSB SES Performance Review Board listed in this notice are drawn from the SES ranks of other agencies. The following persons comprise a standing roster to serve as members of the Defense Nuclear Facilities Safety Board SES Performance Review Board:

Christopher E. Aiello, Director of Human Resources, Federal Deposit Insurance Corporation

David M. Capozzi, Director of Technical and Information Services, United States Access Board

DeDe Greene, Executive Officer, Civil Rights Division, Department of Justice

Christopher W. Warner, General Counsel, U.S. Chemical Safety and Hazard Investigation Board

Dated: September 10, 2010.
Brian Grosner,
Chairman, Executive Resources Board.

[FR Doc. 2010-23180 Filed 9-16-10; 8:45 am]

BILLING CODE 3670-01-P